DEPARTMENT OF TRANSPORTATION

Federal Aviation Administration

Availability of Changes to Advisory Circular 27-1B, Certification of Normal Category Rotorcraft, and Advisory Circular 29-2C, Certification of Transport Category Rotorcraft

AGENCY: Federal Aviation Administration (FAA), DOT.

ACTION: Notice of availability of Advisory Circular (AC) changes.

SUMMARY: This notice announces the availability of changes to AC 27-1B, Certification of Normal Category Rotorcraft, and AC 29-2C, Certification of Transport Category Rotorcraft for AC paragraphs 27.351 and AC 29.351B, Yawing Conditions. These AC paragraphs are final and replace the existing AC paragraphs dated 9/30/99. These AC paragraphs will be included in the upcoming Change 2 update.

FOR FURTHER INFORMATION CONTACT: Kathy L. Jones, Regulations Group, FAA, Rotorcraft Directorate, Aircraft Certification Service, Fort Worth, TX 76193-0111; telephone (817) 222-5359; fax (817) 222-5961; e-mail: http://www.Kathy.L.Jones@FAA.GOV.

SUPPLEMENTARY INFORMATION: This notice announces the availability of AC changes. You can get electronic copies of these changes from the FAA by logging on to http//www.faa.gov/aircraft/draft_docs/. If you do not have access to the Internet, you may request a copy by contacting the person named under the caption FOR FURTHER INFORMATION CONTACT.

Issued in Fort Worth, Texas, on September 2, 2005.
David A. Downey,
Manager, Rotorcraft Directorate, Aircraft Certification Service.

[FR Doc. 05-18152 Filed 9-12-05; 8:45 am]

BILLING CODE 4910-13-M